DEPARTMENT OF THE TREASURY

United States Mint

Establishment of New Prices for United States Mint Numismatic Silver Products

AGENCY: United States Mint, Department of the Treasury.

ACTION: Notice.

SUMMARY: The United States Mint is announcing new and updated pricing for its numismatic silver products in accordance with the table below, effective July 9, 2024:

FOR FURTHER INFORMATION CONTACT: Derrick Griffin, 202-354-7579 or Customer Service; United States Mint; 801 9th Street NW; Washington, DC 20220; or call 1-800-872-6468.

Product | New retail price
American Eagle 1 oz Silver Proof Coin (W) | $95
American Eagle 1 oz Silver Proof Coin (S) | 95
American Eagle 1 oz Silver Uncirculated Coin (W) | 91
2019 American Eagle 1 oz Silver Enhanced Reverse Proof Coin (S) | 105
2019 American Liberty 2.5 oz Silver Medal | 242.50
American Liberty Silver MedalTM | 97
America the Beautiful 5oz Silver Uncirculated (all skus) | 455
United States Mint Silver Proof Set® | 150
United States Mint Congratulations Set | 97
United States Mint Birth Set | 105
American Women Quarters Silver Proof SetTM | 95
Morgan Dollar—Silver Proof | 95
Morgan Dollar—Silver Uncirculated | 91
Peace Dollar—Silver Proof | 95
Peace Dollar—Silver Uncirculated | 91
Morgan and Peace Two-Coin Silver Reverse Proof Set | 215
2024 Liberty/Britannia Silver Medal | 104
2024 Flowing Hair Silver Medal—Uncirculated | 104
Armed Forces 2.5 oz Silver Medal (all skus) | 225
Armed Forces 1 oz Silver Medal (all skus) | 90
1 oz Presidential Silver Medal (all skus) | 90

Authority: 31 U.S.C. 5111, 5112, 5132, 9701.

Eric Anderson,
Executive Secretary, United States Mint.

[FR Doc. 2024-14957 Filed 7-8-24; 8:45 am]

BILLING CODE 4810-37-P